DEPARTMENT OF ENERGY

Federal Energy Regulatory Commission

Combined Notice of Filings #

Take notice that the Commission has received the following Natural Gas & Oil Pipeline Rate and Refund Report filings:

Filings Instituting Proceedings

Docket Numbers: RP23-592-000.

Applicants: Gulf Run Transmission, LLC.

Description: § 4(d) Rate Filing: New NRA—TGC to be effective 4/1/2023.

Filed Date: 3/27/23.

Accession Number: 20230327-5133.

Comment Date: 5 p.m. ET 4/10/23.

Docket Numbers: RP23-593-000.

Applicants: ANR Pipeline Company.

Description: Compliance filing: ANR OFO Waiver Request to be effective N/A.

Filed Date: 3/27/23.

Accession Number: 20230327-5155.

Comment Date: 5 p.m. ET 4/10/23.

Docket Numbers: RP23-594-000.

Applicants: Natural Gas Pipeline Company of America LLC.

Description: § 4(d) Rate Filing: Negotiated Rate Agreement Filing—Other Shippers 5 NRA's to be effective 4/1/2023.

Filed Date: 3/27/23.

Accession Number: 20230327-5172.

Comment Date: 5 p.m. ET 4/10/23.

Docket Numbers: RP23-595-000.

Applicants: Nautilus Pipeline Company, L.L.C.

Description: § 4(d) Rate Filing: Negotiated Rates—HE&D Offshore, L.P. to be effective 3/24/2023.

Filed Date: 3/27/23.

Accession Number: 20230327-5194.

Comment Date: 5 p.m. ET 4/10/23.

Docket Numbers: RP23-596-000.

Applicants: Gulf South Pipeline Company, LLC.

Description: § 4(d) Rate Filing: Amendment to Neg Rate Agmt (Chevron 41610 eff 3-27-23) to be effective 3/27/2023.

Filed Date: 3/28/23.

Accession Number: 20230328-5018.

Comment Date: 5 p.m. ET 4/10/23.

Docket Numbers: RP23-597-000.

Applicants: Horizon Pipeline Company, L.L.C.

Description: Compliance filing: Horizon Penalty Revenue Crediting report for Year 2022 to be effective N/A.

Filed Date: 3/28/23.

Accession Number: 20230328-5019.

Comment Date: 5 p.m. ET 4/10/23.

Docket Numbers: RP23-598-000.

Applicants: Database returns error. There is a problem with archive data and system. Contact Administrator.

Description: Compliance filing: Penalty Revenue Crediting Report from July through December 2022 to be effective N/A.

Filed Date: 3/28/23.

Accession Number: 20230328-5020.

Comment Date: 5 p.m. ET 4/10/23.

Docket Numbers: RP23-599-000.

Applicants: Natural Gas Pipeline Company of America LLC.

Description: § 4(d) Rate Filing: Negotiated Rate Agreement Filing—Multiple Shippers (15 NRA's) to be effective 4/1/2023.

Filed Date: 3/28/23.

Accession Number: 20230328-5051.

Comment Date: 5 p.m. ET 4/10/23.

Docket Numbers: RP23-600-000.

Applicants: Transcontinental Gas Pipe Line Company, LLC.

Description: § 4(d) Rate Filing: Negotiated Rates—ESS—Spire Alabama to be effective 4/1/2023.

Filed Date: 3/28/23.

Accession Number: 20230328-5145.

Comment Date: 5 p.m. ET 4/10/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2023.
Debbie-Anne A. Reese,
Deputy Secretary.

[FR Doc. 2023-06853 Filed 3-31-23; 8:45 am]

BILLING CODE 6717-01-P